NUCLEAR REGULATORY COMMISSION

[Docket No. 040-8838; NRC-2014-0097]

License Amendment Application for Source Materials License Jefferson Proving Ground

AGENCY: Nuclear Regulatory Commission.

ACTION: License amendment application; withdrawal by applicant.

SUMMARY: The U.S. Nuclear Regulatory Commission (NRC) is announcing the withdrawal of a license amendment application from the U.S. Department of the Army (the licensee) for its Jefferson Proving Ground (JPG) site located in Madison, Indiana, to decommission the site under restricted release conditions as defined in the NRC's regulations.

DATES: The license amendment application was withdrawn by the licensee on November 25, 2015.

ADDRESSES: Please refer to Docket ID NRC-2014-0097 when contacting the NRC about the availability of information regarding this document. You may obtain publicly-available information related to this document using any of the following methods:

• Federal Rulemaking Web site: Go to http://www.regulations.gov and search for Docket ID NRC-2014-0097. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James Smith, Office of Nuclear Material Safety and Safeguards, U.S. Nuclear Regulatory Commission, Washington DC 20555-0001; telephone: 301-415-6103, email: James.Smith@nrc.gov.

SUPPLEMENTARY INFORMATION: On August 28, 2013, the licensee submitted to the NRC an application to amend Source Materials License SUB-1435 for its JPG site located in Madison, Indiana, to decommission the site under restricted release conditions as defined in the NRC's regulations 10 CFR 20.1403 (ADAMS Accession No. ML13247A552). The NRC published a notice of opportunity to comment, request a hearing, and to petition for leave to intervene in the license amendment proceeding in the Federal Register on April 28, 2014 (79 FR 23384).

On November 3, 2014, the NRC published in the Federal Register a request for comment on its intent to prepare an environmental impact statement and conduct a scoping process (79 FR 65256). By letter dated November 25, 2015, the licensee withdrew its license amendment application (ADAMS Accession No. ML16005A100). The licensee will continue activities at the Jefferson Proving Ground in compliance with Source Materials License SUB-1435.

Dated at Rockville, Maryland, this 9th day of March 2016.
For the Nuclear Regulatory Commission.
Michael A. Norato,
Acting Deputy Director, Division of Decommissioning, Uranium Recovery, and Waste Programs, Office of Nuclear Material Safety and Safeguards.

[FR Doc. 2016-06283 Filed 3-18-16; 8:45 am]

BILLING CODE 7590-01-P